DEPARTMENT OF THE INTERIOR

Bureau of Land Management

Colorado: Filing of Plats of Survey

April 4, 2006.

SUMMARY: The plats of survey of the following described land will be officially filed in the Colorado State Office, Bureau of Land Management, Lakewood, Colorado, effective 10 a.m., April 4, 2006. All inquiries should be sent to the Colorado State Office (CO-956), Bureau of Land Management, 2850 Youngfield Street, Lakewood, Colorado 80215-7093.

The Plat (in two sheets) and field notes, of the dependent resurvey and surveys in Township 47 North, Range 4 West, New Mexico Principal Meridian, Colorado, requested by the Bureau of Indian Affairs, in order to identify the boundary of the Ute Mountain Ute lands for management purposes, was accepted October 3, 2005.

The Supplemental Plat of Township 43 North, Range 7 West, New Mexico Principal Meridian, Colorado, creating Tract 51, in unsurveyed T. 43 N., R. 7 W., N.M.P.M., requested by the USFS, was accepted October 11, 2005.

The Supplemental Plat of Township 1 North, Range 71 West, Section 17, Sixth Principal Meridian, Colorado, which amends the erroneously numbered lot 107, as shown on the supplemental plat approved November 29, 1932, to lot 156, is based upon the supplemental plat approved November 29, 1932 and the dependent resurvey plat approved November 16, 1942, and was accepted November 1, 2005.

The Supplemental Plat of Township 43 North, Range 10 West, New Mexico Principal Meridian, Colorado, creates new lots 4 through 9, in the SW¼ of Sec. 25. This was requested by the U.S. Forest Service, Grand Mesa, Uncompahgre and Gunnison National Forests, in a letter dated October 17, 2005, in order to facilitate a transfer of lands, with the Telluride Regional Airport Authority, and was accepted November 1, 2005.

The Plat which includes the field notes, and is the entire record of this resurvey, of the survey of Section 13, in Township 40 North, Range 13 West, New Mexico Principal Meridian, Colorado, requested by the USFS to assist with the completion of a land exchange, was accepted December 19, 2005.

The Supplemental Plat of a portion of section 7, and the supplemental plat of a portion of section 20 in Township 1 North, Range 71 West, and the supplemental plat of a portion of section 24 in Township 1 North, Range 72 West, all of the Sixth Principal Meridian, Colorado, requested by the Canon City Field Office Land Surveyor by memorandum dated November 8, 2005, were accepted January 18, 2006.

The Plat and field notes, of the dependent resurvey and surveys in Township 48 North, Range 3 West, New Mexico Principal Meridian, Colorado, requested by the Bureau of Indian Affairs, in order to identify the boundary of Ute Mountain Ute lands for management purposes, was accepted January 25, 2006.

The Plat and field notes, of the dependent resurvey and surveys in Sec. 24, township 49 North, Range 2 West, New Mexico Principal Meridian, Colorado, requested by the Chief of Resource Stewardship and Science, Curecanti National Recreation Area, National Park Service, in order to facilitate an exchange of the sub-surface rights to a parcel of land within the Dickerson Gravel Pit, was accepted February 15, 2006.

The Plat and field notes, of the dependent resurvey and surveys in Section 4, Township 48 North, Range 4 West, New Mexico Principal Meridian, Colorado requested by a private party, through the National Park Service, by a proffer of monetary contribution dated March 25, 2005, to identify the north, south and west boundary of private Lot 11, in Section 4, T. 48 N., R. 4 W., was accepted February 21, 2006.

The Plat which includes the field notes, and is the entire record of this resurvey, in Township 35 North, Range 18 West, New Mexico Principal Meridian, Colorado, requested by the BIA through the Ute Mountain Tribe, to identify lost corners and post boundaries of Ute Mountain Ute lands, was accepted March 16, 2006.

The Plat, and field notes, of the dependent resurvey in Section 9, Township 11 South, Range 70 West, Sixth Principal Meridian, Colorado requested by the Land Surveyor, Pike and San Isabel National Forests, in order to identify National Forest boundaries for a proposed timber sale in conjunction with the Hayman Fire Rehabilitation Project, was accepted March 17, 2006.

The Plat, and field notes of the metes-and-bounds survey in Township 5 South, Range 74 East, Sixth Principal Meridian, Colorado requested by the USFS, in a memorandum dated February 8, 2000, in conjunction with the City of Denver, Mountain Parks and Recreation Division, in order to facilitate the location of the boundaries of both agencies intermingled boundaries, and to further facilitate a land transaction between the two agencies, was accepted March 24, 2006.

Randall M. Zanon,
Chief Cadastral Surveyor for Colorado.

[FR Doc. 06-3566 Filed 4-12-06; 8:45 am]

BILLING CODE 4310-JB-M